NATIONAL AERONAUTICS AND SPACE ADMINISTRATION

[Notice 03-075]

NASA Earth Science Information Systems and Services Subcommittee; Meeting

AGENCY: National Aeronautics and Space Administration (NASA).

ACTION: Notice of meeting.

SUMMARY: The National Aeronautics and Space Administration announces a meeting of the Earth Science Information Systems and Services Subcommittee.

DATES: Wednesday, July 9, 2003, 8:30 a.m. to 5:45 p.m.; and Thursday, July 10, 2003, 8:30 a.m. to 4 p.m.

ADDRESSES: Loews L'Enfant Plaza Hotel, 480 L'Enfant Plaza, Washington, DC 20024.

FOR FURTHER INFORMATION CONTACT: Ms. Martha Maiden, Code YF, National Aeronautics and Space Administration, Washington, DC 20546, 202/358-1078.

SUPPLEMENTARY INFORMATION: The meeting will be open to the public up to the seating capacity of the room. The agenda for the meeting is as follows:

• Introduction, Opening Comments

• Welcome, Charge to Earth Science Information Systems and Services Subcommittee (ESISS)

• The New Face of Earth Science Enterprise (ESE) Data and Information Systems

• Overview: From Earth Observation System Data and Information System(EOSDIS) to the next Decade

• Overview: EOSDIS Current Operations, EOSDIS Maintenance and Development (EMD) Contract Award Status

• Demonstration: The EOSDIS Core System (ECS) Ordering system

• Demonstration: EOSDIS update: the EOS ClearingHouse (ECHO) system

• Earth Science Information Partners (ESIPs) Federation Overview

• Demonstration: Example of Federation capability (“Distributed Oceanographic Data System (DODS) live”?)

• Overview: Science Investigator Processing System (SIPS) processing: An assessment

• Moderate-Resolution Imaging Spectroradiometer (MODIS) Data Analysis Processing System (MODAPS) (MODIS SIPS) presentation: Lessons learned

• What is Strategic Evolution of ESE Data Systems (SEEDS)?

• Overview: SEEDS strategy

• SEEDS prototype: Precipitation Processing System (PPS)

• Demonstration: PPS Live demonstration

• Presentation: National Polar-orbiting Operational Environmental Satellite System (NPOESS)

• Presentation: Climate Large-Array Systems and Services (CLASS)

• Overview: Earth Science Technology Office (ESTO)—Selected Advanced Information Systems Technology (AIST) Projects

• Demonstration: A maturing AIST technology project

• Discussion: Major questions and issues

It is imperative that the meeting be held on these dates to accommodate the scheduling priorities of the key participants. Visitors will be requested to sign a visitor's register.

June W. Edwards,
Advisory Committee Management Officer, National Aeronautics and Space Administration.

[FR Doc. 03-16349 Filed 6-26-03; 8:45 am]

BILLING CODE 7510-01-P